DEPARTMENT OF COMMERCE

National Oceanic and Atmospheric Administration

[I.D. 041805B]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject application to modify an existing Exempted Fishing Permit (EFP) contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued to modify a recently approved EFP by allowing additional exemptions from the regulations governing the fisheries of the Northeastern United States. The EFP would add an exemption from the FMP as follows: The Gulf of Maine (GOM) Rolling Closure Area III; Western GOM Closure Area for the month of May 2005; and the minimum gillnet mesh size for the month of May 2005. Regulations under the Magnuson-Stevens Fishery Conservation and Management Act (Magnuson-Stevens Act) require publication of this notification to provide interested parties the opportunity to comment on applications for proposed EFPs.

DATES: Written comments on this document must be received on or before May 6, 2005.

ADDRESSES: Written comments should be sent to Patricia A. Kurkul, Regional Administrator, NMFS, Northeast Regional Office, 1 Blackburn Drive, Gloucester, MA 01930. Mark the outside of the envelope “Comments on Revised GOM Gillnet Study.” Comments may also be sent via fax to (978) 281-9135 or submitted via e-mail to da660r@noaa.gov.

FOR FURTHER INFORMATION CONTACT: Karen Tasker, Fishery Management Specialist, phone (978) 281-9273.

SUPPLEMENTARY INFORMATION: The Gulf of Maine Research Institute, Massachusetts Division of Marine Fisheries, and Angelica Fisheries, Inc., submitted an application for an EFP on August 13, 2004. The primary goal of the research is to establish gillnet selectivity curves for haddock in the GOM, and to test whether it is possible to catch legal-size haddock with gillnet gear with mesh size that is less than 6.5 inches (16.5 cm) while avoiding catching cod or other species of concern in an area east of Cape Ann, Massachusetts, from January through April 2005. An EFP was granted on January 6, 2005, which allowed for exemptions from the regulations implementing the FMP as follows during 14 days in January through March 2005: The Western GOM Closure Area specified at 50 CFR 648.81(e) and the minimum gillnet mesh size specified at 50 CFR 648.80(a)(3)(iv)(B)(1).

Five gillnets of mesh sizes ranging from 4.5 to 6.5 inches (11.4 to 16.5 cm), in 0.5-inch (1.3-cm) increments, would be fished by one vessel in six groups (each group containing one net of each mesh size), for a total of 30 nets. The nets would be of standard commercial length, 300 ft (91.4 m), and approximately two-thirds the standard commercial height, resulting in a height of 7.5 ft (2.3 m). This net size was selected based on the applicants' belief that cod typically are captured in the upper meshes of standard nets when standard nets are fished in this area.

In order to conduct this project, researchers requested, and were granted, an exemption to the minimum mesh size regulation of 6.5 inches(16.5 cm) in the GOM. Additionally, in the initial EFP application, researchers requested, and were granted, access to fish in an area off of Cape Ann, Massachusetts, between 42°35′ and 42°50′ N. lat. and 69°50′ to 70°15′ W. long. (30 minute squares 131 and 132), including the Western GOM Closure Area. Researchers requested access to a portion of the Western GOM Closure Area during January through April 2005 because historical commercial fishing experience indicates that haddock are present in high densities in this area during the study period. However, because the month of April is a peak spawning period for cod in the GOM, and the Western GOM Closure Area is closed in part to protect spawning cod, this EFP was prevented from occurring in the Western GOM Closure Area and thus was restricted to January through March 2005.

On March 14, 2005, and April 11, 2005, researchers submitted requests to modify their EFP in order to allow them the opportunity to collect data in the month of May 2005. The additional time is needed because research could not begin until March due to the experimental gear not being ready until that time. The EFP would continue an exemption from the minimum mesh size requirements for the GOM RMA. In addition, researchers requested to change the study area for the month of May 2005 to an area between 42°35′ and 43°00′ N. latitude and 69°50′ to 70°15′ W. longitude, including access to the Western GOM Closure Area. They also requested an exemption from the regulations pertaining to GOM Rolling Closure Area III. Finally, the number of sea days during which this research would take place is anticipated to increase from 14 days proposed in the initial EFP request to 17 days.

The data collection activities aboard the participating vessels would be conducted by observers from the Gulf of Maine Research Institute and Massachusetts Division of Marine Fisheries to ensure compliance with the experimental fishery objectives.

If the proposed EFP modification is approved, the applicant may place requests for minor modifications and extensions to the EFP throughout the year. EFP modifications and extensions may be granted without further notice if they are deemed essential to facilitate completion of the proposed research and result in only a minimal change in the scope or impact of the initially approved EFP request.

Authority: 16 U.S.C. 1801 et seq.

Dated: April 18, 2005.
Alan D. Risenhoover
Acting Director, Office of Sustainable Fisheries, National Marine Fisheries Service.

[FR Doc. E5-1880 Filed 4-20-05; 8:45 am]

BILLING CODE 3510-22-S